DEPARTMENT OF TRANSPORTATION

Federal Aviation Administration

Twenty-First Meeting: RTCA Special Committee 203, Unmanned Aircraft Systems

AGENCY: Federal Aviation Administration (FAA), U.S. Department of Transportation (DOT).

ACTION: Meeting Notice of RTCA Special Committee 203, Unmanned Aircraft Systems.

SUMMARY: The FAA is issuing this notice to advise the public of the twenty-first meeting of RTCA Special Committee 203, Unmanned Aircraft Systems.

DATES: The meeting will be held May 22-25, 2012, from 9:00 a.m.-5:00 p.m.

ADDRESSES: The meeting will be held at RTCA, Inc., 1150 18th Street, NW., Suite 910, Washington, DC, 20036.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 203. The agenda will include the following:

May 22, 2012 Opening Plenary Session

• Welcome/Introductions/Administrative Remarks

• Approval of Twentieth Plenary Summary

• Chairperson/Leadership Updates

• Designated Federal Official (DFO) Update

• Schedule Status

• Workgroup Updates

• Plenary Adjourns

Mid Morning/Afternoon

• Workgroup Breakout Sessions

• Systems Engineering Workgroup

• C&C Workgroup

• S&A Workgroup

• Safety Workgroup

Wednesday, May 23

• All day-Workgroup Breakout Sessions

Thursday, May 24

• All day-Workgroup Breakout Sessions

Friday, May 25

• 8:00 a.m.-10:00 a.m.—Workgroup Breakout Sessions

• 11:00 a.m.-12:00 p.m.—Plenary Reconvenes

• Workgroup Back Briefs

• Other Business

• Closing Plenary Session

• Other Business

• Date, Place, and Time for Plenary Twenty-Two

• Plenary Adjourns

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 24, 2012.
John Raper,
Manager, Business Operations Branch, Federal Aviation Administration.

[FR Doc. 2012-10365 Filed 4-30-12; 8:45 am]

BILLING CODE 4910-13-P